ENVIRONMENTAL PROTECTION AGENCY

40 CFR Part 180

[EPA-HQ-OPP-2025-0153; FRL-12748-02-OCSPP]

RIN 2070-ZA16

Pesticide Tolerances; Implementing Registration Review Decisions for Certain Pesticides; Diphenylamine, et al.

AGENCY: Environmental Protection Agency (EPA).

ACTION: Final rule.

SUMMARY: The Environmental Protection Agency (EPA or Agency) is finalizing several pesticide tolerance actions under the Federal Food, Drug, and Cosmetic Act (FFDCA) that the Agency previously determined were necessary or appropriate during the registration review conducted under the Federal Insecticide, Fungicide, and Rodenticide Act (FIFRA). During registration review, EPA reviews all aspects of a pesticide case, including existing tolerances, to ensure that the pesticide continues to meet the standard for registration under FIFRA. The pesticide tolerances and active ingredients addressed in this rulemaking are identified and discussed in detail in Unit II. of this document.

DATES: This rule is effective on February 20, 2026. Objections and requests for hearings must be received on or before April 21, 2026 and must be filed in accordance with the instructions provided in 40 CFR part 178 (see also Unit I.D. of this document).

ADDRESSES: The docket for this action, identified by docket identification (ID) number EPA-HQ-OPP-2025-0153, is available through https://www.regulations.gov. Additional information about dockets generally, along with instructions for visiting the docket in person, is available at https://www.epa.gov/dockets.

FOR FURTHER INFORMATION CONTACT: Caleb Carr, Pesticide Re-Evaluation Division (7508M), Office of Pesticide Programs, Environmental Protection Agency, 1200 Pennsylvania Ave. NW, Washington, DC 20460-0001; telephone number: (202) 566-0636; email address: carr.caleb@epa.gov.

SUPPLEMENTARY INFORMATION:

I. Executive Summary

A. Does this action apply to me?

You may be potentially affected by this action if you are an agricultural producer, food manufacturer, or pesticide manufacturer. The following list of North American Industrial Classification System (NAICS) codes is not intended to be exhaustive, but rather provides a guide to help readers determine whether this document might apply to them:

• Crop production (NAICS code 111).

• Animal production (NAICS code 112).

• Food manufacturing (NAICS code 311).

• Pesticide manufacturing (NAICS code 32532).

If you have any questions regarding the applicability of this proposed action to a particular entity, consult the person listed under FOR FURTHER INFORMATION CONTACT.

B. What action is the Agency taking?

EPA is finalizing several tolerance actions that the Agency proposed in the Federal Register of May 22, 2025 (90 FR 21878) (FRL-12748-01-OCSPP), because EPA previously determined these tolerance actions were necessary or appropriate during registration review of the pesticide active ingredients identified in Unit III. of the proposed rule. The tolerance actions for each pesticide active ingredient are described in detail in Unit III. of the proposed rule. This rulemaking finalizes the previously proposed actions with no changes.

The Agency received one comment on the proposed rule from one contributor. The public comment did not initiate changes to the regulatory text of this final rulemaking. For a detailed summary of the comment received and Agency's response, see Unit III.

C. What is EPA's authority for taking this action?

FFDCA section 408(e), 21 U.S.C. 346a(e), authorizes EPA to establish, modify, or revoke tolerances or exemptions from the requirement of a tolerance on its own initiative. After providing a 60-day public comment period, EPA may finalize the rule. EPA provided a 60-day comment period and is now finalizing the rule.

FFDCA section 408(b)(2)(A)(i) allows EPA to establish a tolerance (the legal limit for a pesticide chemical residue in or on a food) only if EPA determines that the tolerance is “safe.” FFDCA section 408(b)(2)(A)(ii) defines “safe” to mean that “there is a reasonable certainty that no harm will result from aggregate exposure to the pesticide chemical residue, including all anticipated dietary exposures and all other exposures for which there is reliable information.” This includes exposure through drinking water and in residential settings but does not include occupational exposure. FFDCA section 408(b)(2)(C) requires EPA to give special consideration to exposure of infants and children to the pesticide chemical residue in establishing a tolerance and to “ensure that there is a reasonable certainty that no harm will result to infants and children from aggregate exposure to the pesticide chemical residue . . .”

D. How can I file an objection or hearing request?

Under FFDCA section 408(g), 21 U.S.C. 346a(g), any person may file an objection to any aspect of this regulation and may also request a hearing on those objections. If you fail to file an objection to the final rule within the time period specified in the final rule, you will have waived the right to raise any issues resolved in the final rule. You must file your objection or request a hearing on this regulation in accordance with the instructions provided in 40 CFR part 178. To ensure proper receipt by EPA, you must identify docket ID number of this final rule (EPA-HQ-OPP-2025-0153), and the chemical-specific docket ID number as provided in Unit III of the proposed rule (90 FR 21878) (FRL-12748-01-OCSPP) in the subject line on the first page of your submission. All objections and requests for a hearing must be in writing and must be received by the Hearing Clerk on or before April 21, 2026.

The EPA's Office of Administrative Law Judges (OALJ), in which the Hearing Clerk is housed, urges parties to file and serve documents by electronic means only, notwithstanding any other particular requirements set forth in other procedural rules governing those proceedings. See “Revised Order Urging Electronic Filing and Service,” dated June 22, 2023, which can be found at https://www.epa.gov/system/files/documents/2023-06/2023-06-22%20-%20revised%20order%20urging%20electronic%20filing%20and%20service.pdf. Although the EPA's regulations require submission via U.S. Mail or hand delivery, the EPA intends to treat submissions filed via electronic means as properly filed submissions; therefore, the EPA believes the preference for submission via electronic means will not be prejudicial. When submitting documents to the OALJ electronically, a person should utilize the OALJ e-filing system at https://yosemite.epa.gov/oa/eab/eab-alj_upload.nsf.

II. Proposed Rule

In the proposed rule, EPA proposed several tolerance actions that the Agency previously determined were necessary or appropriate during registration review for the following pesticide active ingredients: diphenylamine, diflubenzuron, flutolanil, isoxaflutole, famoxadone, aminopyralid, fenazaquin, and tembotrione. The specific tolerance actions proposed for these pesticide active ingredients were identified in Unit III. of the proposed rule (90 FR 21878) (FRL-12748-01-OCSPP). This final rule serves to implement the previously proposed actions without any changes.

III. Public Comments and EPA's Responses

During the public comment period for the changes in the proposed rule, which closed on July 21, 2025, EPA received 1 comment, from 1 source. The following is a summary of the comment received and the Agency's response to the comment.

Comment: The commentor expressed a general concern about the risk associated with the use of pesticides.

EPA's Response: Since the commenter did not provide any information specific to the proposed tolerance changes, the Agency is not making any revisions to the previously proposed tolerance changes.

IV. Final Tolerance Actions

EPA is finalizing the tolerance actions it proposed in the May 22, 2025, proposed rule. The comment received did not warrant any changes in what was proposed, nor has EPA identified any other changes (see Unit III). As a result, EPA is finalizing the tolerance actions as proposed in Unit III. of the proposed rule.

A. EPA's Safety Determination

As noted in Unit II.D. of the proposed rule and the supporting registration review documents, EPA has assessed the individual risks from exposure to the pesticide active ingredients identified in Unit II. of this final rule. EPA is finalizing the proposed safety findings contained in the proposed rule for each of the pesticide active ingredients contained in this rule.

For further detail about pesticide-specific registration review safety findings, see the public docket that has been opened for each pesticide, which is available online at https://www.regulations.gov using the docket ID number listed in Unit III. of the proposed rule.

B. Analytical Enforcement Methodology

Adequate enforcement methodology as described in the supporting documents is available to enforce the tolerance expressions for the tolerances subject to this final rule.

C. Conclusion

Therefore, EPA is finalizing the tolerance actions identified in Unit III. of the proposed rule. All tolerance values expressed in the regulatory text of this rule, updated or otherwise, reflect current OECD rounding class practice.

V. Effective and Expiration Date(s)

These tolerance actions are effective on the date of publication of the final rule in the Federal Register. For actions in the final rule that lower or revoke existing tolerances, EPA has set an expiration date for the existing tolerance of six months after the date of publication of the final rule in the Federal Register, to allow a reasonable interval for producers in exporting members of the World Trade Organization's (WTO's) Sanitary and Phytosanitary (SPS) Measures Agreement to adapt to the requirements.

VI. Statutory and Executive Order Reviews

Additional information about these statutes and Executive Orders can be found at https://www.epa.gov/regulations/and-executive-orders.

A. Executive Order 12866: Regulatory Planning and Review

This action is exempt from review under Executive Order 12866 (58 FR 51735, October 4, 1993), because it establishes or modifies a pesticide tolerance or a tolerance exemption under FFDCA section 408. This exemption also applies to tolerance revocations for which extraordinary circumstances do not exist. As such, this exemption applies to the tolerance revocations in this final rule because the Agency knows of no extraordinary circumstances that warrant reconsideration of this exemption for those tolerance revocations.

B. Executive Order 14192: Unleashing Prosperity Through Deregulation

Executive Order 14192 (90 FR 9065, February 6, 2025) does not apply because actions that establish a tolerance under FFDCA section 408 are exempted from review under Executive Order 12866.

C. Paperwork Reduction Act (PRA)

This action does not impose an information collection burden under the PRA 44 U.S.C. 3501 et seq., because it does not contain any information collection activities.

D. Regulatory Flexibility Act (RFA)

I certify that this action will not have a significant economic impact on a substantial number of small entities under the RFA, 5 U.S.C. 601 et seq. In making this determination, EPA concludes that the impact of concern for this action is any significant adverse economic impact on small entities and that the Agency is certifying that this action will not have a significant economic impact on a substantial number of small entities because the action has no net burden on small entities subject to this rulemaking. As discussed in the proposed rule, this determination takes into account several EPA analyses of potential small entity impacts for tolerance actions. EPA did not receive any comments about the Agency's determination for this rulemaking.

E. Unfunded Mandates Reform Act (UMRA)

This action does not contain an unfunded mandate of $100 million or more (in 1995 dollars and adjusted annually for inflation) as described in UMRA, 2 U.S.C. 1531-1538, and does not significantly or uniquely affect small governments. The action imposes no enforceable duty on any State, local, or Tribal governments or the private sector.

F. Executive Order 13132: Federalism

This action does not have federalism implications as specified in Executive Order 13132 (64 FR 43255, August 10, 1999), because it will not have substantial direct effects on the States, on the relationship between the National Government and the States, or on the distribution of power and responsibilities among the various levels of government.

G. Executive Order 13175: Consultation and Coordination With Indian Tribal Governments

This action does not have Tribal implications as specified in Executive Order 13175 (65 FR 67249, November 9, 2000), because it will not have substantial direct effects on Tribal governments, on the relationship between the Federal government and the Indian Tribes, or on the distribution of power and responsibilities between the Federal Government and Indian Tribes.

H. Executive Order 13045: Protection of Children From Environmental Health Risks and Safety Risks

This action is not subject to Executive Order 13045 (62 FR 19885, April 23, 1997) because it is not a significant regulatory action under section 3(f)(1) of Executive Order 12866 (See Unit VI.A.), and because EPA does not believe the environmental health or safety risks addressed by this action present a disproportionate risk to children.

However, EPA's 2021 Policy on Children's Health applies to this action. This rule finalizes tolerance actions under the FFDCA, which requires EPA to give special consideration to exposure of infants and children to the pesticide chemical residue in establishing a tolerance and to “ensure that there is a reasonable certainty that no harm will result to infants and children from aggregate exposure to the pesticide chemical residue . . .” (FFDCA 408(b)(2)(C)). The Agency's consideration is documented in the pesticide-specific registration review documents located in each chemical docket at https://www.regulations.gov.

I. Executive Order 13211: Actions Concerning Regulations That Significantly Affect Energy Supply, Distribution or Use

This action is not subject to Executive Order 13211 (66 FR 28355) (May 22, 2001) because it is not a significant regulatory action under Executive Order 12866.

J. National Technology Transfer Advancement Act (NTTAA)

This action does not involve technical standards that would require Agency consideration under NTTAA section 12(d), 15 U.S.C. 272.

K. Congressional Review Act (CRA)

This action is subject to the CRA, 5 U.S.C. 801 et seq., and EPA will submit a rule report to each House of the Congress and to the Comptroller General of the United States. This action is not a “major rule” as defined by 5 U.S.C. 804(2).

List of Subjects in 40 CFR Part 180

Environmental protection, Administrative practice and procedure, Agricultural commodities, Pesticides and pests, Reporting and recordkeeping requirements.

Dated: February 12, 2026.
Edward Messina,
Director, Office of Pesticide Programs.

For the reasons set forth in the preamble, EPA is amending 40 CFR chapter I as follows:

PART 180—TOLERANCES AND EXEMPTIONS FOR PESTICIDE CHEMICAL RESIDUES IN FOOD

1. The authority citation for part 180 continues to read as follows:

Authority: 21 U.S.C. 321(q), 346a and 371.

2. Amend § 180.190 by revising and republishing paragraph (a) to read as follows:

§ 180.190 Diphenylamine; tolerances for residues.

(a) General. Tolerances are established for residues of diphenylamine, including its metabolites and degradates, in or on the commodities in Table 1 to Paragraph (a). Compliance with the tolerance levels specified in Table 1 to Paragraph (a) is to be determined by measuring only diphenylamine, in or on the commodity.

Table 1 to Paragraph (a)
Commodity | Parts per million
Apple | 10
Apple, wet pomace | 30
Pear | 5

* * * * *

3. Amend § 180.377 by:

a. Revising and republishing the table in paragraph (a)(1);

b. Revising and republishing the table in paragraph (a)(2);

c. Removing and reserving paragraph (b); and

d. Revising and republishing the table in paragraph (c).

The revisions and additions read as follows:

§ 180.377 Diflubenzuron; tolerances for residues.

(a) * * *

(1) * * *

Table 1 to Paragraph (a)(1)
Commodity | Parts per million
Artichoke, globe | 6
Cattle, fat | 0.1
Cattle, meat | 0.1
Cotton, gin byproducts | 30
Cottonseed subgroup 20C | 0.2
Egg | 0.07
Goat, fat | 0.1
Goat, meat | 0.1
Hog, fat | 0.1
Hog, meat | 0.1
Horse, fat | 0.1
Horse, meat | 0.1
Milk | 0.05
Mushroom | 8
Poultry, fat | 0.1
Poultry, meat byproducts | 0.08
Poultry, meat | 0.05
Sheep, fat | 0.1
Sheep, meat | 0.1
Soybean, seed | 0.05
Soybean, hulls | 0.5

(2) * * *

Table 2 to Paragraph (a)(2)
Commodity | Parts per million
Almond, hulls | 6
Barley, grain | 0.06
Barley, hay | 3
Barley, straw | 1.8
Brassica, leafy greens, subgroup 4-16B | 10
Carrot, roots | 0.2
Cattle, meat byproducts | 0.15
Fruit, citrus, group 10-10, oil | 32
Fruit, citrus, group 10-10 | 3
Goat, meat byproducts | 0.15
Grain, aspirated fractions | 11
Grass, forage, fodder and hay, group 17 | 6
Hog, meat byproducts | 0.15
Horse, meat byproducts | 0.15
Oat, forage | 7
Oat, grain | 0.06
Oat, hay | 6
Oat, straw | 3.5
Peanut | 0.1
Peanut, hay | 55
Peanut, refined oil | 0.2
Peach subgroup 12-12B | 0.5
Pear | 0.5
Pepper/eggplant subgroup 8-10B | 1
Plum subgroup 12-12C | 0.5
Nut, tree, group 14-12 | 0.2
Rice, grain | 0.02
Sheep, meat byproducts | 0.15
Turnip greens | 9
Wheat, forage | 7
Wheat, grain | 0.06
Wheat, hay | 6
Wheat, straw | 3.5

(b) [Reserved]

(c) * * *

Table 3 to Paragraph (c)
Commodity | Parts per million
Alfalfa, forage | 6
Alfalfa, hay | 20
Alfalfa, seed | 0.9

* * * * *

4. Amend § 180.484 by:

a. Revising and republishing the table in paragraph (a); and

b. Revising the table in paragraph (d) by adding the heading “Table 2 to Paragraph (d)” and revising the entries for “Wheat, bran” and “Wheat, straw”.

The revisions and additions read as follows:

§ 180.484 Flutolanil; tolerances for residues.

(a) * * *

Table 1 to Paragraph (a)
Commodity | Parts per million
Cattle, fat | 0.1
Cattle, kidney | 1
Cattle, liver | 2
Cattle, meat byproducts | 0.05
Cattle, meat | 0.05
Cotton, gin byproducts | 0.2
Cotton, undelinted seed | 0.2
Egg | 0.05
Goat, fat | 0.1
Goat, kidney | 1
Goat, liver | 2
Goat, meat byproducts | 0.05
Goat, meat | 0.05
Hog, fat | 0.1
Hog, kidney | 1
Hog, liver | 2
Hog, meat byproducts | 0.05
Hog, meat | 0.05
Horse, fat | 0.1
Horse, kidney | 1
Horse, liver | 2
Horse, meat byproducts | 0.05
Horse, meat | 0.05
Milk | 0.05
Peanut | 0.5
Peanut, hay | 20
Peanut, meal | 1
Potato | 0.2
Potato, wet peel | 0.3
Poultry, fat | 0.05
Poultry, meat | 0.05
Poultry, meat byproducts | 0.05
Rice, bran | 10
Rice, grain | 7
Sheep, fat | 0.1
Sheep, kidney | 1
Sheep, liver | 2
Sheep, meat | 0.05
Sheep, meat byproducts | 0.05
Soybean, forage | 8
Soybean, hay | 2.5
Soybean, seed | 0.2
Turnip greens | 0.2
Vegetable, brassica, leafy, group 5 | 0.2

* * * * *

(d) * * *

Table 2 to Paragraph (d)
Commodity | Parts per million
Wheat, bran | 0.2
* * * * * * *
Wheat, straw | 0.2

5. Amend § 180.537(a) by adding the table heading “Table 1 to Paragraph (a)” and revising the entry for “Grain, aspirated fractions” to read as follows:

§ 180.537 Isoxaflutole; tolerances for residues.

(a) * * *

Table 1 to Paragraph (a)
Commodity | Parts per million
* * * * * * *
Grain, aspirated fractions | 0.3
* * * * * * *

* * * * *

6. Amend § 180.587 by:

a. Revising and republishing paragraph (a);

b. Revising the introductory text in paragraph (c); and

c. Adding the table heading “Table 2 to Paragraph (c)”.

The revisions and additions read as follows:

§ 180.587 Famoxadone; tolerances for residues.

(a) General. Tolerances are established for residues of the fungicide famoxadone, including its metabolites and degradates, in or on the commodities listed in Table 1 to Paragraph (a). Compliance with the tolerance levels specified in Table 1 to Paragraph (a) is to be determined by measuring only famoxadone (5-methyl-5-(4-phenoxyphenyl)-3-(phenylamino)-2,4-oxazolidinedione) in or on the commodity.

Table 1 to Paragraph (a)
Commodity | Parts per million
Arugula | 25
Caneberry subgroup 13-07A | 10
Cattle, fat | 0.02
Cattle, liver | 0.05
Celtuce | 25
Cress, garden | 25
Cress, upland | 25
Fennel, florence, fresh leaves and stalk | 25
Goat, fat | 0.02
Goat, liver | 0.05
Grape, raisin ¹ | 5
Hop, dried cone | 80
Horse, fat | 0.02
Horse, liver | 0.05
Leaf petiole vegetable subgroup 22B | 25
Leafy greens subgroup 4-16A, except spinach | 25
Milk, fat | 0.06
Onion, bulb, subgroup 3-07A | 0.45
Onion, green, subgroup 3-07B | 40
Potato | 0.02
Sheep, fat | 0.02
Sheep, liver | 0.05
Spinach | 50
Tomato | 1
Vegetable, cucurbit, group 9 | 0.3
Vegetable, fruiting, group 8-10, except tomato | 4
¹ There are no U.S. registrations.

* * * * *

(c) Tolerances with regional registrations. Tolerances with a regional registration as defined in § 180.1(l) are established for residues of the fungicide famoxadone, including its metabolites and degradates, in or on the commodities listed in Table 2 to Paragraph (c). Compliance with the tolerance levels specified in Table 2 to Paragraph (c) is to be determined by measuring only famoxadone (5-methyl-5-(4-phenoxyphenyl)-3-(phenylamino)-2,4-oxazolidinedione) in or on the commodity.

Table 2 to Paragraph (c)
* * * * * * *

7. Amend § 180.610 by:

a. Adding the table heading “Table 1 to Paragraph (a)(1)”;

b. Revising the table in paragraph (a)(1) by revising the tolerance entries for “Corn, field, forage”, “Corn, field, grain”, “Corn, field, stover”, “Wheat, forage”, “Wheat, hay”, and “Wheat, straw”; and

c. Adding the table heading “Table 2 to Paragraph (a)(2)”.

The revisions and additions read as follows:

§ 180.610 Aminopyralid; tolerances for residues.

(a) * * *

(1) * * *

Table 1 to Paragraph (a)(1)
Commodity | Parts per million
Corn, field, forage | 0.3
Corn, field, grain | 0.2
Corn, field, stover | 0.2
* * * * * * *
Wheat, forage | 2
* * * * * * *
Wheat, hay | 4
Wheat, straw | 0.3

(2) * * *

Table 2 to Paragraph (a)(2)
* * * * * * *

8. Amend § 180.632 by:

a. Adding table heading “Table 1 to Paragraph (a)” to the table in paragraph (a);

b. Revising the table in paragraph (a) by:

i. Removing the entry “Fruit, Citrus, Group 10 except Grapefruit”;

ii. Revising the entry “Tea, dried”;

iii. Adding the entry “Tea, instant”;

iv. Revising footnote; ¹ and

v. Removing footnote.²

The revisions and additions read as follows:

§ 180.632 Fenazaquin; tolerances for residues.

(a) * * *

Table 1 to Paragraph (a)
Commodity | Parts per million
* * * * * * *
Tea, dried ¹ | 10
Tea, instant ¹ | 10
* * * * * * *
¹ There are no U.S. registrations.

* * * * *

9. Amend § 180.634 by:

a. Adding the table heading “Table 1 to Paragraph (a)(1)” to the table in paragraph (a)(1);

b. In the table in paragraph (a)(1), revise the entries for “Cattle, liver”, “Corn, field, forage”, “Corn, sweet, stover”, “Goat, liver”, “Horse, liver”, and “Sheep, liver”; and

c. Adding table heading “Table 2 to Paragraph (a)(2)” to the table in paragraph (a)(2).

The revisions and additions read as follows:

§ 180.634 Tembotrione; tolerances for residues.

(a) * * *

(1) * * *

Table 1 to Paragraph (a)(1)
Commodity | Parts per million
Cattle, liver | 0.4
* * * * * * *
Corn, field, forage | 0.6
* * * * * * *
Corn, sweet, stover | 0.6
Goat, liver | 0.4
* * * * * * *
Horse, liver | 0.4
* * * * * * *
Sheep, liver | 0.4
* * * * * * *

(2) * * *

Table 2 to Paragraph (a)(2)
* * * * * * *

[FR Doc. 2026-03371 Filed 2-19-26; 8:45 am]

BILLING CODE 6560-50-P